DEPARTMENT OF HEALTH AND HUMAN SERVICES

Administration on Aging

Centers for Medicare & Medicaid Services

[Program Announcement Nos. AoA-03-05 and CMS-2185-N]

Fiscal Year 2003 Program Announcement; Availability of Funds and Notice Regarding Applications

AGENCY: Administration on Aging, Centers for Medicare & Medicaid Services, HHS.

ACTION: Announcement of availability of funds and request for applications.

SUMMARY: The Administration on Aging (AoA) and the Centers for Medicare & Medicaid Services (CMS) announce that under this program announcement they will hold a competition for grant awards to be issued as cooperative agreements for up to sixteen (16) projects at a federal share of up to $800,000 over 3 (three) years.

Legislative authority: AoA's authority for these grants is under the Older Americans Act, Public Law 106-501 (Catalog of Federal Domestic Assistance 93.048, Title IV and Title II, Discretionary Projects). CMS’ legislative authority for these grants is under section 1110 of the Social Security Act. Funding to CMS and Congressional language was provided in the Consolidated Appropriations Resolution, 2003 (Pub. L. 108-7). AoA and CMS are the designated HHS agencies with administrative responsibility for their respective portion for funding this joint effort. See Supplementary Information below for additional discussion of CMS’ authority under section 1110.

Purpose of grant awards: The awards are to be used by states to develop Aging and Disability Resource Center programs that will provide citizen-centered “one-stop shop” entry points into the long term support system and will be based in local communities accessible to people who may require long term support. Resource Centers will serve individuals who need long term support, their family caregivers, and those planning for future long term support needs. They will also serve as a resource for health and long term support professionals and others who provide services to the elderly and to people with disabilities.

Resource Centers supported under this program must, at a minimum, include the elderly population, and at least one of the following major target groups by the first quarter of the second year: (a) Individuals with physical disabilities, (b) individuals with serious mental illness, and/or (c) individuals with mental retardation/developmental disabilities.

These grants will be issued as cooperative agreements because AoA and CMS anticipate having substantial involvement with the recipients during performance of funded activities. The involvement may include collaboration, participation, or intervention in the funded activities. AoA and CMS will also be involved in the development and implementation of the funded projects by way of conducting a joint review of the applications and providing technical assistance, training, guidance and oversight throughout the project period. More specifically, letters of intent and applications may be submitted to AoA and CMS through the AoA “single point of application” address listed in this solicitation. AoA will ensure that all appropriate parties in both AoA and CMS receive the letter and application. AoA and CMS will make final decisions on the grant awards jointly. AoA and CMS project officers will jointly perform the day-to-day federal responsibilities. Grantees will be expected to keep in contact with AoA and CMS project officer staff on a regular basis. Grantees will also be expected to share all significant products that result from their projects with AoA and CMS.

Eligibility for grant awards and other requirements: Eligibility for grant awards (cooperative agreements) is limited to state agencies or instrumentalities of a state. Only one application per state will be accepted. The applicant agency must have the support and active participation of the Single State Agency on Aging and the Single State Medicaid Agency. Grantees are required to provide at least 5% of the project's total cost with non-Federal cash or non-financial recipient contribution (match) in order to be considered for the award. Non-financial recipient contributions may include the value of goods and/or services contributed by the Grantee (e.g., salary and fringe benefits of staff devoting a percentage of their time to the grant not otherwise included in the budget or derived from federal funds). Recipient contributions must be included in the applicant's budget in Item 15 (Estimated Funding) on Standard Form 424A and described in the budget narrative/justification section of the application. The non-financial match requirement may also be satisfied if a third party participating in the grant makes an “in-kind contribution,” provided that the Grantee's contribution and/or the third-party in-kind contribution equals 5% of the total grant award (including all direct and indirect costs). Third-party “in-kind contributions” may include the value of the time spent by citizen task force members (using appropriate cost allocation methods to the extent that non-Federal funds are involved) who specifically contribute to the design, development and implementation of the grant.

Executive Order 12372 is not applicable to these grant applications.

Screening criteria: In order for an application to be reviewed, it must meet the following screening requirements:

1. Applications must be postmarked by midnight, July 28, 2003, or hand-delivered by 5:30 p.m. Eastern Time, on July 28, 2003, or submitted electrically by midnight, July 28, 2003. Electronic submissions must be sent to: http://www.aoa.gov/egrants.

2. The Project Narrative section of the Application must be double-spaced, on single-sided 8½″ × 11″ plain white paper with 1″ margins on both sides, and a font size of not less than 11.

3. The Project Narrative must not exceed 25 pages.

Review of applications: Applications will be evaluated against the following criteria: Problem Statement/Need for Assistance (5 points); Approach, Work Plan and Activities (25 points); Formative Learning and Information Management (10 points); Capabilities (10 points); Significance and Sustainability (15 points); Stakeholder Input and Partnerships (15 points); and Budget and Resources (20 points).

DATES: The deadline date for the submission of applications is July 28, 2003. Potential applicants are encouraged to submit a letter of intent to apply for a cooperative agreement not later than June 19, 2003. AoA and CMS will conduct an Applicants' Teleconference on June 12, 2003. Information regarding the time and call-in number for this open teleconference will be available on the AoA Web site at http://www.aoa.gov and on the CMS Web site at http://www.cms.hhs.gov/newfreedom/default.asp.

ADDRESSES: Application kits are available by writing to the U.S. Department of Health and Human Services, Administration on Aging, Center for Planning and Policy Development, Washington, DC 20201; by calling 202/357-3461; or online at http://www.aoa.gov/egrants or http://www.cms.hhs.gov/newfreedom/default.asp.

Applications may be mailed to the U.S. Department of Health and Human Services, Administration on Aging, Office of Grants Management, Washington, DC 20201, attn: Margaret Tolson (AoA-03-05).

Applications may be delivered to the U.S. Department of Health and Human Services, Administration on Aging, Office of Grants Management, One Massachusetts Avenue, NW, Room 4604, Washington, D.C. 20001, attn: Margaret Tolson (AoA-03-05).

If you elect to mail or hand deliver your application you must submit one original and two copies of the application; an acknowledgement card will be mailed to applicants. Instructions for electronic mailing of grant applications are available at http://www.aoa.gov/egrants.

SUPPLEMENTARY INFORMATION: All grant applicants are encouraged to obtain a D-U-N-S number from Dun and Bradstreet. It is a nine-digit identification number, which provides unique identifiers of single business entities. The D-U-N-S number is free and easy to obtain from http://www.dnb.com/US/duns_update/.

These Aging and Disability Resource Center grants are a part of CMS' “Real Choice Systems Change Grants for Community Living” demonstration grants authorized under section 1110 of the Social Security Act. Funding and Congressional language was provided in the Consolidated Appropriations Resolution, 2003 (Pub. L. 108-7). In FY 2003, Congress appropriated an additional $40 million for Real Choice Systems Change Grants for Community Living. Congress also passed a 0.65% general reduction in the FY 2003 appropriation that has been distributed across Federal programs, including this appropriation, so the final amount available for grant awards will be slightly less than $40 million. The Administration on Aging (AoA), in collaboration with the Centers for Medicare & Medicaid Services (CMS), is inviting through this notice, proposals for a portion of this funding, totaling approximately $5 million dollars from CMS. A separate Notice of Funding Availability covering the CMS' other $35 million in Real Choice Systems Change Grants for Community Livingwill soon be published in the Federal Register.

Section 1110 (a)(1)(A) of the Social Security Act authorizes CMS make “grants to States and public and other organizations and agencies for paying part of the cost of research or demonstration projects such as those * * * which will help improve the administration and effectiveness of programs carried on or assisted under the Social Security Act and programs related thereto * * *.” CMS has restructured its efforts under § 1110 into eight themes. The Aging and Disability Resource Center Grants are part of CMS's Research and Demonstration efforts under Theme 5: Strengthening Medicaid, State Children's Health Insurance Program (SCHIP), and State Programs. This effort includes research and demonstrations on ways to improve access to and delivery of health care to the persons served by Medicaid. These Resource Center grants, to be awarded as cooperative agreements, are a part of the President's New Freedom Initiative. The New Freedom Initiative calls for the removal of barriers to community living for people with disabilities. CMS is the designated HHS agency with administrative responsibility for the Real Choice Systems Change Grant program. Because funding for this program appears as part of the agency's FY 2003 budget, all awards will be made to eligible entities before October 1, 2003.

We will not fund through these grants those efforts or activities that are already being funded under an existing Real Choice Systems Change Grant (funded in FY 2001 or FY 2002) or other grant funds. If a Grantee proposes to significantly expand an earlier-funded project, the applicant must specifically describe this expansion in its application. We also encourage states to seek private sector grant opportunities (e.g., grants from foundations) to augment or coordinate with the Real Choice Systems Change Grants for Community Living.

Information Collection Requirements. The information collection requirements associated with this program announcement are under review by the Office of Management and Budget (OMB). A separate notice will be published in the Federal Register to solicit comments on this collection.

FOR FURTHER INFORMATION CONTACT: Kari Benson, U.S. Department of Health and Human Services, Administration on Aging, Center for Planning and Policy Development, Washington, DC, 20201, telephone: (202) 357-3461 or Kari.Benson@aoa.gov. Questions about the Real Choice Systems Change Grants for Community Living Program, and this notice, may also be directed to: Mary Guy, Centers for Medicare & Medicaid Services, Center for Medicaid and State Operations, DEHPG/DCSI, Mail Stop: S2-14-26, 7500 Security Boulevard, Baltimore, MD 21244-1850, (410) 786-2772, E-mail: RealChoiceFY03@cms.hhs.gov.

Dated: May 22, 2003.
Josefina G. Carbonell,
Assistant Secretary for Aging.

[FR Doc. 03-13442 Filed 5-28-03; 8:45 am]

BILLING CODE 4154-01-P